DEPARTMENT OF THE INTERIOR

National Park Service

[NPS-WASO-NAGPRA-20406; PPWOCRADN0-PCU00RP14.R50000]

Notice of Inventory Completion: U.S. Department of Defense, Army Corps of Engineers, Omaha District, Omaha, NE., and State Archaeological Research Center, Rapid City, SD

AGENCY: National Park Service, Interior.

ACTION: Notice.

SUMMARY: The U.S. Army Corps of Engineers, Omaha District (Omaha District), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Omaha District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Omaha District at the address in this notice by May 5, 2016.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3003, of the completion of an inventory of human remains and associated funerary objects under the control of the Omaha District. The human remains and associated funerary objects were removed from site 39DW02 (Four Bear), in Dewey County, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the State Archaeological Research Center (SARC) and Omaha District professional staff in consultation with representatives of the Three Affiliated Tribes of the Fort Berthold Reservation, North Dakota.

History and Description of the Remains

Between 1958 and 1959, human remains representing, at minimum, 12 individuals and 868 associated funerary objects were collected from 39DW2, the Four Bear site, Dewey County, SD. They are presently located at the SARC and are under the control of the Omaha District.

The Four Bear site, 39DW2, was an earthlodge village on the west bank of the Missouri River. It was visited in the 1930s by Alfred Bowers of the Smithsonian Institution. Between 1958 and 1959, salvage excavations were conducted at the site prior to inundation by flood waters of the Oahe Reservoir. At least 100 sets of human remains were recovered. Twelve sets of human remains, representing 5 adults, 3 children, and 4 infants, are currently housed at SARC. A total of 64 sets of human remains were reburied either at Four Bear site or at site 39ST15. The whereabouts of the remaining 24 sets of human remains are currently unknown. Based on burial type, associated artifacts, the remaining archeological context, and physical anthropological assessment, the 12 individuals presently located at SARC from the Four Bear site are Native American. No known individuals were identified. The 868 associated funerary objects are 5 shell and glass beads, 30 ceramic sherds, 819 copper sleeves crimped on leather, 5 wire earrings, 3 fragments of animal hide, 1 lot of animal hides, 1 faunal fragment, 2 pieces of clay and soil, 1 seed cache, and 1 shell tool.

The Four Bear site, 39 DW2, was probably occupied during the last two decades of the 1700s, which falls into the Disorganized Coalescent variant (A.D. 1780 to 1862) of the Plains Village Tradition. At least 36 circular lodges were identified. The excavators located a cemetery associated with the village a short distance southwest of the village site. In addition to the mortuary practices and types of funerary objects in evidence, the architecture of the circular earth lodges, community plan, physical location, and ceramic types support the association of the site to the late 1700s. It is possible that the site was first documented in William Clark's journal on October 6, 1804, as well as being mentioned in journals of members of the Lewis and Clark Expedition. The journals mention that the “Ricara” had left the village the prior spring. Populations associated with the Coalescent tradition within this area and time frame, as evidenced by the ethnographic and archeological record, are believed to be ancestral to the Arikara. The Arikara are represented today by the Three Affiliated Tribes of the Fort Berthold Reservation, North Dakota.

Determinations Made by the Omaha District

Officials of the Omaha District have determined that:

• Pursuant to 25 U.S.C. 3001(9), the human remains described in this notice represent the physical remains of 12 individuals of Native American ancestry.

• Pursuant to 25 U.S.C. 3001(3)(A), the 868 objects described in this notice are reasonably believed to have been placed with or near individual human remains at the time of death or later as part of the death rite or ceremony.

• Pursuant to 25 U.S.C. 3001(2), there is a relationship of shared group identity that can be reasonably traced between the Native American human remains and associated funerary objects and the Three Affiliated Tribes of the Fort Berthold Reservation, North Dakota.

Additional Requestors and Disposition

Lineal descendants or representatives of any Indian tribe or Native Hawaiian organization not identified in this notice that wish to request transfer of control of these human remains and associated funerary objects should submit a written request with information in support of the request to Ms. Sandra Barnum, U.S. Army Engineer District, Omaha, ATTN: CENWO-PM-AB, 1616 Capital Avenue, Omaha, NE 68102, telephone, (402) 995-2674, email sandra.v.barnum@usace.army.mil, by May 5, 2016. After that date, if no additional requestors have come forward, transfer of control of the human remains and associated funerary objects to the Three Affiliated Tribes of the Fort Berthold Reservation, North Dakota, may proceed.

The U.S. Army Corps of Engineers, Omaha District is responsible for notifying the Three Affiliated Tribes of the Fort Berthold Reservation, North Dakota, that this notice has been published.

Dated: March 10, 2016.
Melanie O'Brien,
Manager, National NAGPRA Program.

[FR Doc. 2016-07766 Filed 4-4-16; 8:45 am]

BILLING CODE 4312-50-P